DEPARTMENT OF TRANSPORTATION

Federal Aviation Administration

14 CFR Part 150

Airport Noise Compatibility Planning

CFR Correction

In Title 14 of the Code of Federal Regulations, Parts 140 to 199, revised as of January 1, 2002, on page 99, in Appendix A to Part 150, equation (3) is revised to read as follows:

Appendix A to Part 150—Noise Exposure Maps

* * * * *

* * * * *

[FR Doc. 03-55506 Filed 2-7-03; 8:45 am]

BILLING CODE 1505-01-D